DEPARTMENT OF VETERANS AFFAIRS

[OMB Control No. 2900-NEW]

Agency Information Collection Activity Under OMB Review: Veterans Health Administration (VHA) Office of Community Care (OCC) Contractor Training Program Assessment Survey

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before October 24, 2019.

ADDRESSES: Submit written comments on the collection of information through www.Regulations.gov, or to Office of Information and Regulatory Affairs, Office of Management and Budget, Attn: VA Desk Officer; 725 17th St. NW, Washington, DC 20503 or send through electronic mail to oira_submission@omb.eop.gov. Please refer to “OMB Control No. 2900-NEW” in any correspondence.

FOR FURTHER INFORMATION CONTACT: Danny S. Green, Office of Quality, Performance and Risk (OQPR), Department of Veterans Affairs, 810 Vermont Avenue NW, Washington, DC 20420, (202) 421-1354 or email danny.green2@va.gov. Please refer to “OMB Control No. 2900-NEW” in any correspondence.

SUPPLEMENTARY INFORMATION:

Authority: 44 U.S.C. 3501-21.

Title: Veterans Health Administration (VHA) Office of Community Care (OCC) Contractor Training Program Assessment Survey.

OMB Control Number: 2900-NEW.

Type of Review: New collection.

Abstract: The legal authority for this data collection is found under 38 U.S.C., part I, chapter 5, section 527, authorizing the collection of data that will allow measurement and evaluation of the Department of Veterans Affairs Programs, the goal of which is improved health care for Veterans. Further, pursuant to Section 122 of the MISSION Act of 2018, the VHA Office of Community Care (OCC) will use this data collection to improve its training program and report to Congress regarding the training program's effectiveness.

Section 122 of the MISSION Act of 2018 requires VA to develop and conduct a training program for VA employees and contractors on how to administer non-Department health care programs, reimbursement for non-Department emergency room care, and the management of prescriptions for opioids, as established under section 131. It also requires the VA to evaluate and report on the program annually. As part of this effort, the VHA OCC has developed a survey to assess its eLearning training modules with Patient-Centered Community Care (PC3) and Community Care Network contractors. The purpose of the survey is to evaluate and report the effectiveness of this training program for contractors. The results of the survey will allow OCC to refine and improve the various training modalities and associated materials for the most effective training program and provide an annual report to Congress.

An agency may not conduct or sponsor, and a person is not required to respond to, a collection of information unless it displays a currently valid OMB control number. The Federal Register Notice with a 60-day comment period soliciting comments on this collection of information was published at 84 FR 30809 on June 27, 2019, page 30809.

Affected Public: Individuals or Households.

Estimated Annual Burden: 3,833 hours.

Estimated Average Burden per Respondent: 10 minutes.

Frequency of Response: Once annually.

Estimated Number of Respondents: 23,000.

By direction of the Secretary.
Danny S. Green,
Interim VA Clearance Officer, Office of Quality, Performance and Risk (OQPR), Department of Veterans Affairs.

[FR Doc. 2019-20582 Filed 9-23-19; 8:45 am]

BILLING CODE 8320-01-P